DEPARTMENT OF ENERGY

Federal Energy Regulatory Commission

[Docket No. IC19-11-000]

Commission Information Collection Activities (FERC-538); Comment Request

AGENCY: Federal Energy Regulatory Commission, Department of Energy.

ACTION: Comment request.

SUMMARY: In compliance with the requirements of the Paperwork Reduction Act of 1995, the Federal Energy Regulatory Commission (Commission or FERC) is submitting its information collection FERC-538 (Gas Pipelines Certificates: Section 7(a) Mandatory Initial Service) to the Office of Management and Budget (OMB) for review of the information collection requirements. Any interested person may file comments directly with OMB and should address a copy of those comments to the Commission as explained below. The Commission previously published a Notice in the Federal Register on December 18, 2018, requesting public comments. The Commission received no comments on the FERC-538 and is making this notation in its submittal to OMB.

DATES: Comments on the collection of information are due by April 18, 2019.

ADDRESSES: Comments filed with OMB, identified by the OMB Control No. 1902-0061, should be sent via email to the Office of Information and Regulatory Affairs: oira_submission@omb.gov. Attention: Federal Energy Regulatory Commission Desk Officer.

A copy of the comments should also be sent to the Commission, in Docket No. IC19-11-000, by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: Gas Pipelines Certificates: Section 7(a) Mandatory Initial Service.

OMB Control No.: 1902-0061.

Type of Request: Three-year extension of the FERC-538 information collection requirements with no changes to the current reporting requirements.

Abstract: Under sections 7(a), 10(a) and 16 of Natural Gas Act (NGA),¹ upon application by a person or municipality authorized to engage in the local distribution of natural gas, the Commission may order a natural gas company to extend or improve its transportation facilities, and sell natural gas to the municipality or person and, for such purpose, to extend its transportation facilities to communities immediately adjacent to such facilities or to territories served by the natural gas pipeline company. The Commission uses the application data in order to be fully informed concerning the applicant, and the service the applicant is requesting.

¹ 15 U.S.C. 717f-w.

Type of Respondents: Persons or municipalities authorized to engage in the local distribution of natural gas.

Estimate of Annual Burden ²: The Commission estimates the annual reporting burden and cost for the information collection as:

² “Burden” is defined as the total time, effort, or financial resources expended by persons to generate, maintain, retain, or disclose or provide information to or for a Federal agency. For further explanation of what is included in the information collection burden, reference 5 Code of Federal Regulations 1320.3.

FERC-538—Gas Pipeline Certificates: Section 7(a) Mandatory Initial Service
| Number of respondents | Annual number of responses per respondent | Total number of responses | Average burden hrs. & Cost ($) per response ³ | Total annual burden Hours & total annual cost ($) | Cost per respondent ($)
| (1) | (2) | (1) * (2) = (3) | (4) | (3) * (4) = (5) | (5) ÷ (1)
Gas Pipeline Certificates | 1 | 1 | 1 | 240 hrs.; $18,960 | 240 hrs.; $18,960 | $18,960

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

³ The estimates for cost per response are derived using the following formula: Average Burden Hours per Response * $79.00/hour = Average cost/response. The figure is the 2018 FERC average hourly cost (for wages and benefits) of $79.00 (and an average annual cost of $164,820/year). Commission staff is using the FERC average salary plus benefits because we consider people completing the FERC-538 to be compensated at rates similar to FERC employees.

Dated: March 13, 2019.
Kimberly D. Bose,
Secretary.

[FR Doc. 2019-05113 Filed 3-18-19; 8:45 am]

BILLING CODE 6717-01-P